Title 3—

The President

Proclamation 8219 of January 28, 2008

Sixth Anniversary of USA Freedom Corps, 2008

By the President of the United States of America

A Proclamation

People across this great Nation have heard the universal call to love a neighbor and are using their time and talents to make a difference in the lives of others. On the sixth anniversary of the USA Freedom Corps, we celebrate the spirit of service in America and honor the volunteers whose good work represents the generous character of our country.

After the terrorist attacks of September 11, 2001, I created the USA Freedom Corps to build on the countless acts of service, sacrifice, and generosity undertaken by our citizens. The USA Freedom Corps is dedicated to expanding volunteer service and extending the goodwill of the American people across our country and around the globe. By connecting individuals with volunteer opportunities, the USA Freedom Corps has helped ensure that millions of people have a chance to make a difference in the lives of those in need. The USA Freedom Corps also helps strengthen the non-profit sector and supports other national service programs and initiatives such as the Peace Corps, Citizen Corps, AmeriCorps, and Senior Corps. These efforts can help us build a more hopeful country and create a chain of compassion for generations to come.

Volunteers demonstrate kindness and touch lives. With hard work and dedication, volunteers help the less fortunate, respond to crises, mentor children, assist the elderly, and strengthen our communities. I urge all Americans to serve others and to learn more about service opportunities by visiting the USA Freedom Corps website at volunteer.gov. By providing help and hope to others, Americans can lead the world toward a more caring and compassionate tomorrow.

NOW, THEREFORE, I, GEORGE W. BUSH, President of the United States of America, by virtue of the authority vested in me by the Constitution and laws of the United States, do hereby proclaim January 29, 2008, as the Sixth Anniversary of the USA Freedom Corps. I call upon the citizens of this great country to find ways to volunteer and to use their time, energy, and talents to help their fellow Americans, and I commend the efforts of the USA Freedom Corps and all those who answer the call to serve.

IN WITNESS WHEREOF, I have hereunto set my hand this twenty-eighth day of January, in the year of our Lord two thousand eight, and of the Independence of the United States of America the two hundred and thirty-second.

[FR Doc. 08-460

Filed 1-30-08; 8:45 am]

Billing code 3195-01-P